DEPARTMENT OF ENERGY

Federal Energy Regulatory Commission

[Project No. 14861-002]

FFP Project 101, LLC; Notice of Public Meetings Soliciting Comments on the Draft Environmental Impact Statement for the Goldendale Energy Storage Project

On March 31, 2023, Commission staff issued a Notice of Availability of the Draft Environmental Impact Statement (EIS) for the Goldendale Energy Storage Project (FERC No. 14861). That notice set a deadline of June 6, 2023, for filing written comments on the draft EIS and contained specific instructions on how to file comments electronically or to mail written comments to the Commission. In addition to or in lieu of filing written comments, you are invited to attend public meetings being held by Commission staff for the purpose of receiving comments on the draft EIS. At the meetings, resource agency personnel, non-governmental organizations, Native American Tribes, and other interested persons can provide oral and written comments and recommendations regarding the draft EIS. The meetings will be recorded by a court reporter, and all statements (verbal and written) will become part of the Commission's public record for the project.

All interested individuals and entities are invited to attend one or both of the public meetings. The dates and times of the public meetings are listed below.

Daytime Meeting

Date: Wednesday May 3, 2023.

Time: 10:00 a.m. to 12:00 p.m. Pacific Time.

Location: Goldendale Grange, 415 Northwest 2nd St., Goldendale, Washington 98620-9516.

Evening Meeting

Date: Wednesday May 3, 2023.

Time: 7:00 p.m. to 9:00 p.m. Pacific Time.

Location: Goldendale Grange, 415 Northwest 2nd St., Goldendale, Washington 98620-9516.

Commission staff will be moderating the meetings. The meetings will begin promptly at their respective start times listed above. At the start of the meeting, staff will provide further instructions regarding the meeting setup, agenda, and how participants can provide their comments and questions during the meeting. Oral comments will initially be limited to five minutes in duration. These meetings are posted on the Commission's calendar located on the internet at https://www.ferc.gov/news-events/events along with other related information.

For further information, contact Michael Tust at (202) 502-6522 or at michael.tust@ferc.gov.

Kimberly D. Bose,
Secretary.

[FR Doc. 2023-08351 Filed 4-19-23; 8:45 am]

BILLING CODE 6717-01-P